DEPARTMENT OF COMMERCE

International Trade Administration

[A-570-954]

Certain Magnesia Carbon Bricks From the People's Republic of China: Extension of Time Limit for the Preliminary Results of Antidumping Duty Administrative Review

AGENCY: Import Administration, International Trade Administration, Department of Commerce.

DATES: Effective Date: May 10, 2012.

FOR FURTHER INFORMATION CONTACT: Tim Lord, Office 9, AD/CVD Operations, Import Administration, International Trade Administration, U.S. Department of Commerce, 14th Street and Constitution Avenue NW., Washington, DC 20230; telephone: (202) 482-7425.

Background

On September 2, 2011, the Department of Commerce (“Department”) published a notice of opportunity to request an administrative review on the antidumping order on certain magnesia carbon bricks from the People's Republic of China (“PRC”) for the period of review March 12, 2010, through August 31, 2011.¹ Based upon requests for review from various parties, on October 31, 2011, the Department initiated an antidumping duty administrative review on certain magnesia carbon bricks from the PRC, covering 129 companies.² The preliminary results are currently due June 1, 2012.

¹ See Antidumping or Countervailing Duty Order, Finding, or Suspended Investigation; Opportunity To Request Administrative Review, 76 FR 54735 (September 2, 2011).

² See Initiation of Antidumping and Countervailing Duty Administrative Reviews, 76 FR 67133 (October 31, 2011).

Statutory Time Limits

Section 751(a)(3)(A) of the Tariff Act of 1930, as amended (“Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this review within the current time limits. The Department requires additional time to analyze questionnaire (including supplemental questionnaire) responses and surrogate country and value data. This additional time also takes into account analysis of data related to the dumping margin calculation for the reviewed respondents, and the consideration of any issues that may be raised by parties during the course of this proceeding. Therefore, the Department is hereby extending the time limit for completion of the preliminary results by 120 days. The preliminary results will now be due no later than September 29, 2012. As that day falls on a Saturday, the preliminary results are due no later than October 1, 2012.³ The final results continue to be due 120 days after the publication of the preliminary results.

³ See Notice of Clarification: Application of “Next Business Day” Rule for Administrative Determination Deadlines Pursuant of the Tariff Act of 1930, as Amended, 70 FR 24533 (May 10, 2005).

This notice is published in accordance with sections 751(a)(3)(A) and 777(i)(1) of the Act.

Dated: May 2, 2012.
Christian Marsh,
Deputy Assistant Secretary for Antidumping and Countervailing Duty Operations.

[FR Doc. 2012-11346 Filed 5-9-12; 8:45 am]

BILLING CODE 3510-DS-P